FEDERAL TRADE COMMISSION

16 CFR Part 306

RIN 3084-AB39

Automotive Fuel Ratings, Certification and Posting

AGENCY: Federal Trade Commission.

ACTION: Final rule; conforming amendment.

SUMMARY: The Federal Trade Commission (“FTC” or “Commission”) is updating a reference in its rule for Automotive Fuel Ratings, Certification and Posting (“Fuel Rating Rule” or “Rule”) to reflect the Environmental Protection Agency's (“EPA”) recent reorganization of its fuel-related regulations.

DATES: These rule revisions are effective on December 8, 2021.

FOR FURTHER INFORMATION CONTACT: Hampton Newsome (202-326-2889), Attorney, Division of Enforcement, Bureau of Consumer Protection, Federal Trade Commission, Room CC-9528, 600 Pennsylvania Avenue NW, Washington, DC 20580.

SUPPLEMENTARY INFORMATION:

I. Conforming Amendment

Recently, EPA issued amendments streamlining its fuel quality regulations (85 FR 78412 (Dec. 4, 2020)). As part of this process, EPA transferred regulations that are cross-referenced in the FTC's Fuel Rating Rule from 40 CFR part 80 to a new 40 CFR part 1090. To conform to these changes, the FTC amends § 306.10 of its Fuel Rating Rule to update a reference to EPA's ethanol labeling requirements in paragraph (a). Specifically, in 16 CFR 306.10(a), the amendment removes the reference to 40 CFR 80.1501 and adds, in its place, a reference to 40 CFR 1090.1510 (the new location of those same EPA requirements).

II. Procedural Requirements

There is good cause for adopting this final rule without advance public notice or an opportunity for public comment.¹ The amendment published in this document merely updates a cross reference to an EPA fuel quality rule referenced in the Commission's Rule. This minor technical revision does not change any substantive obligations under the Rule or create new requirements. In addition, under the Administrative Procedure Act, a final rule may be made effective without 30 days advance publication in the Federal Register if an agency finds good cause. Prompt adoption of this amendment is necessary to avoid confusion by updating the Rule's reference to EPA's ethanol labeling requirement. Therefore, this final rule is effective upon publication in the Federal Register.

¹ Notice and comment are not required “when the agency for good cause finds (and incorporates the finding and a brief statement of reasons therefore in the rules issued) that notice and public procedure thereon are impracticable, unnecessary, or contrary to the public interest.” 5 U.S.C. 553(b)(3)(B).

The Office of Management and Budget (“OMB”) has approved the information collections contained in the Rule through September 30, 2023 (OMB Control No. 3084-0068). Since this amendment only updates a cross-reference to existing EPA requirements, it does not change the Rule's information collection requirements and does not require further OMB clearance. The requirements of the Regulatory Flexibility Act also do not apply.²

² A regulatory flexibility analysis under the RFA is required only when an agency must publish a notice of proposed rulemaking for comment. See 5 U.S.C. 603.

Pursuant to the Congressional Review Act (5 U.S.C. 801 et seq.), the Office of Information and Regulatory Affairs designated this rule as not a “major rule,” as defined by 5 U.S.C. 804(2).

List of Subjects in 16 CFR Part 306

Fuel, Fuel ratings, Gasoline, Trade practices.

For the reasons discussed in the preamble, the Federal Trade Commission amends part 306 of Title 16 of the Code of Federal Regulations as follows:

PART 306—AUTOMOTIVE FUEL RATINGS, CERTIFICATION AND POSTING

1. The authority citation for part 306 continues to read as follows:

Authority: 15 U.S.C. 2801 et seq.; 42 U.S.C. 17021.

§ 306.10 [Amended]

2. In § 306.10, in paragraph (a), remove “40 CFR 80.1501” and add in its place “40 CFR 1090.1510”.

April J. Tabor,
Secretary.

[FR Doc. 2021-26558 Filed 12-7-21; 8:45 am]

BILLING CODE 6750-01-P